FEDERAL COMMUNICATIONS COMMISSION

[DA 11-50]

Consumer Advisory Committee

AGENCY: Federal Communications Commission.

ACTION: Notice.

SUMMARY: This document announces the rechartering of the Consumer Advisory Committee (hereinafter “the Committee”), whose purpose is to make recommendations to the Federal Communications Commission (“FCC” or “Commission”) regarding consumer issues within the jurisdiction of the Commission and to facilitate the participation of consumers (including people with disabilities and underserved populations, such as American Indians and persons living in rural areas) in proceedings before the Commission. The Commission also requests applications for membership on the Committee.

DATES: Applications should be received no later than 11:59 p.m. EST, February 7, 2011.

ADDRESSES: Federal Communications Commission, Consumer and Governmental Affairs Bureau, 445 12th Street, SW., Room 3-A633, Washington, DC 20554.

FOR FURTHER INFORMATION CONTACT: Scott Marshall, Consumer and Governmental Affairs Bureau, 202-418-2809 (voice), 202-418-0179 (TTY), or e-mail scott.marshal@fcc.gov.

SUPPLEMENTARY INFORMATION: The rechartering of the Committee was announced by Public Notice dated and released January xx, 2011. On November 17, 2010, the Charter of the Committee terminated. The Charter was renewed for another two (2) year term. This renewal is necessary and is in the public interest. The Committee is organized under, and will operate in accordance with, the provisions of the Federal Advisory Committee Act, 5 U.S.C. App. 2 (1988).

The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least fifteen (15) days in advance of the meeting. Records will be maintained of each meeting and made available for public inspection.

The topics to be addressed by the Committee will include, but are not limited to, the following areas:

Consumer protection and education (e.g., cramming, slamming, consumer friendly billing, detariffing, bundling of services, Lifeline/Linkup programs, customer service, privacy, telemarketing abuses, and outreach to underserved populations such as Native Americans and persons living in rural areas).

Access by people with disabilities (e.g., telecommunications relay services, hearing aid compatibility, video description, closed captioning, accessible billing and access to telecommunications products and services) to the extent that these issues are not within the jurisdiction of the Emergency Access Advisory Committee and the Video Programming and Emergency Access Advisory Committee created by the Twenty-first Century Communications and Video Accessibility Act of 2010.

Impact upon consumers of new and emerging technologies (e.g., availability of broadband, digital television, cable, satellite, low power FM, and the convergence of these and emerging technologies).

Implementation of Commission rules and consumer participation in the FCC rulemaking process.

Who May Apply for Membership and Obligations of Members

The Commission seeks applications from interested organizations, institutions, or other entities from both the public and private sectors, that wish to be considered for membership on the Committee. Selections will be made on the basis of factors such as expertise and diversity of viewpoints that are necessary to address effectively the questions before the Committee.

Applicants should be recognized authorities in their fields, including, but not limited to, organizations focusing upon consumer advocacy, disabilities, underserved populations (e.g., persons living in rural areas and tribal communities), telecommunications infra-structure and equipment, telecommunications services (including wireless), and broadcast/cable services. Individuals who do not represent an organization, institution, or entity, but who possess expertise valuable to the Committee's work, are also welcome to apply. Such applicants should be aware, however, that government ethics rules may require financial and other disclosures.

In addition, all applicants are advised that the Commission has elected to adhere to the President's policy, as announced in his memorandum of June 18, 2010, “Lobbyists on Agency Boards and Commissions,” which aspires to keep Federal agencies' advisory boards and committees free of federally registered lobbyists. For this reason, the Commission will not consider registered lobbyists as members or representatives of members of the Committee.

The number of Committee members will be established to effectively accomplish the Committee's work. During calendar year 2011, it is anticipated that the Committee will meet in Washington, DC for three (3) one-day meetings. In addition, as needed, working groups or subcommittees will be established to facilitate the Committee's work between meetings of the full Committee. Meetings will be fully accessible to individuals with disabilities.

Members must be willing to commit to a two-year term of service, should be willing and able to attend three (3) one-day meetings per year in Washington, DC, and are also expected to participate in deliberations of at least one working group or subcommittee. The time commitment to each working group or subcommittee may be substantial. Working group deliberations are conducted primarily through e-mail and teleconferences.

Application Procedure, Deadline and Member Appointments

Applications should be submitted in accordance with the procedures outlined below, which include an optional online application form.

Applications should be received by the Commission no later than 11:59 p.m.. EST, February 7, 2011. Applications should be addressed to the Federal Communications Commission, Consumer & Governmental Affairs Bureau, Attn.: Scott Marshall, and may be sent via e-mail to scott.marshall@fcc.gov or via an online application form on the web at http://www.fcc.gov/cgb/cac/2011app, or via U.S. mail to 445 12th Street, SW., Room 3a633, Washington, DC 20554. Due to the extensive security screening of incoming mail since September 11, 2001, delivery of mail sent to the FCC may be delayed. Therefore, we urge you to submit applications via e-mail or online. Applications will be acknowledged shortly after receipt via e-mail or U.S. mail.

Applications for Organizations Should Include the Following Information

(1) The name of the organization, institution, or entity applying for Committee membership (hereinafter the “applicant”);

(2) The name of the applicant's primary representative including title, postal mailing address, e-mail address, and telephone number, including a statement that the representative of the applicant is not a registered lobbyist;

(3) The name of the applicant's alternate representative including title, postal mailing address, e-mail address, and telephone number, including a statement that the alternate representative is not a registered lobbyist;

(4) A statement of the interests represented by the organization, institution, or entity (e.g., consumer advocate, disability advocate, government regulator, tribal government, industry, trade association etc.) and a narrative statement detailing the applicant's previous involvement concerning issues relevant to the Committee's work and the applicant's ability and willingness to contribute substantively to the Committee's deliberations.

In the case of an individual applicant the application should include the following:

(1) The applicant's specific knowledge or expertise which is relevant to issues to be addressed by the committee, including a statement that the individual applicant is not a registered lobbyist. As noted above, financial and other additional disclosures may also apply to individual applicants, and;

(2) A statement by the applicant indicating a willingness to serve on the Committee for a two year period of time; a commitment to attend three (3) plenary one-day meetings per year in Washington, DC; and a commitment to work on at least one working group or subcommittee. Members will have an initial and continuing obligation to disclose any interests in, or connections to, persons or entities that are, or will be, regulated by or have interests before the Commission.

Please note this document is not intended to be the exclusive method by which the Commission will solicit nominations and expressions of interest to identify qualified candidates. However, all candidates for membership on the Committee will be subject to the same evaluation criteria.

After the applications have been reviewed, the Commission will publish a notice in the Federal Register announcing the appointment of the Committee members and the first meeting date of the Committee. All applicants will be notified via U.S. Postal mail concerning the disposition of their applications. It is anticipated that appointments to the Committee will be made in late February or March of 2011 with the first meeting of the Committee to occur in March or April of 2011.

Federal Communications Commission.
Joel Gurin,
Chief, Consumer and Governmental Affairs Bureau

[FR Doc. 2011-1170 Filed 1-19-11; 8:45 am]

BILLING CODE 6712-01-P